DEPARTMENT OF LABOR

Veterans' Employment and Training Service

Agency Information Collection Activities; Comment Request: VETS' Jobs for Veterans State Grants Program Reporting

ACTION: Notice of availability; request for comments.

SUMMARY: VETS is announcing an opportunity for public comment on the proposed revision of certain information the agency collects from grant recipients. Under the Paperwork Reduction Act (PRA) of 1995, Federal agencies are required to publish a notice in the Federal Register concerning each proposed collection of information and to allow 60 days for public comment in response to the notice.

DATES: Consideration will be given to all written comments received by December 21, 2021.

ADDRESSES: A copy of this Information Collection Request (ICR) with applicable supporting documentation, including a description of the likely respondents, proposed frequency of response, and estimated total burden, may be obtained for free by contacting Rebekah Haydin by telephone at (240) 867-2302 (this is not a toll-free number) or by email at Haydin.Rebekah@dol.gov.

Submit written comments about this ICR by email to: Haydin.Rebekah@dol.gov.

FOR FURTHER INFORMATION CONTACT: Rebekah Haydin, by telephone at (240) 867-2302 (this is not a toll-free number) or by email at Haydin.Rebekah@dol.gov.

SUPPLEMENTARY INFORMATION: The Department of Labor, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Department of Labor's Veterans' Employment and Training Service (VETS) administers funds for the Jobs for Veterans State Grant (JVSG) to each state, the District of Columbia, Puerto Rico, Guam, and the U.S. Virgin Islands on an annual fiscal year basis. These non-competitive, formula-driven grants are codified under Title 38, United States Code, (38 U.S.C.) Section 4102A(b)(5):

“Subject to subsection (c) make available for use in each state by grant or contract such funds as may be necessary to support—(A) disabled veterans' outreach program specialists appointed under section 4103A(a)(1) of this title, (B) local veterans' employment representatives assigned under section 4104(b) of this title, and (C) the reasonable expenses of such specialists and representatives described in subparagraphs (A) and (B), respectively, for training, travel, supplies, and other business expenses . . .”

VETS provides funds to states in accordance with an allocation formula required by 38 U.S.C. 4102A(c)(2)(B) and as published in regulation at Title 20, Part 1001, Subpart F of the Code of Federal Regulations (CFR). The Assistant Secretary for Veterans' Employment and Training monitors and supervises the distribution and use of those funds as required by 38 U.S.C. 4102A(b)(6). Additionally, and in accordance with 38 U.S.C. 4107(b), the Secretary reviews performance and provides an annual report to Congress that includes a characterization of the quality and character of priority of services provided to veterans (38 U.S.C. 4215 and 20 CFR 1010.320, 1010.330), efforts to coordinate with the Veterans Administration in accordance with 38 U.S.C. 4102A(b)(3) and 4109; and incentive fund usage as described in 38 U.S.C. 4112.

VETS is requesting continued approval for the information collection that streamlines the annual funding request process for grantees, reports the use of grantee funds in sufficient detail to allow interim adjustments that ensure all appropriated funding is expended properly, and provides data needed for VETS' Annual Report to Congress.

The forms and reports collect required programmatic and financial data from states and territories requesting and obligating grant funds. The continued use of standardized formats for collecting this information helps to ensure that requested data is provided in a uniform way, reporting burdens are minimized, the impact of collection requirements on respondents are properly assessed, collection instruments are clearly understood by respondents, and the information is easily consolidated for posting in accordance with statutory requirements.

VETS is proposing the following revisions to the forms:

• Add activity to budget for and report on management and administrative costs. Currently, grant recipients have no appropriate way to reflect the direct-charged salaries and benefits of staff supported by the grant other than Disabled Veterans' Outreach Program (DVOP), Local Veterans' Employment Representative (LVER), and consolidated DVOP/LVER staff. By adding an “Mgmt & Admin Costs” activity to the VETS-401 Budget Information Summary, VETS-402 Expenditure Detail Report, and VETS-403 Technical Performance Narrative, grantees will be able to easily budget for and report on these expenses.

• Remove several reporting requirements. On the VETS-501 Staffing Directory, VETS proposes removing the requirement to enter each staff position's office name and number, email address, intensive service coordinator designation, and program manager designation. VETS no longer needs that information. On the VETS-403 Technical Performance Narrative, VETS proposes removing the requirement to submit a Q5 spending plan since there are no special rules for spending JVSG funding in the fifth quarter (or in later quarters) as opposed to the first four quarters. All expenditures must be made in accordance with the terms and conditions of the grant, regardless of the quarter in which the expenditure occurred.

• Remove the subform allowing for reporting on the cash basis of accounting. VETS has historically allowed recipients to report financial expenditures using either the cash basis of accounting (on the VETS-402A) or the accrual basis of accounting (on the VETS-402B). To align with 2 CFR 2900.14 as well as to accommodate certain programmatic changes, VETS has determined that JVSG recipients must report using the accrual basis of accounting. The VETS-402A subform that accommodates the cash basis will be discontinued. The VETS-402B subform will simply be referred to as the VETS-402 form since there will be no subforms.

• Reorganize the VETS-401 Budget Information Summary for clarity. VETS proposes to remove certain parts of Section B into a new section of the form, which will become Section D. The removed components include the number of full-time equivalents to be supported by each activity's allocation and the automatically-calculated salary and benefits to total expense ratio and cost per position. The reorganization will also include transposing Section C's rows and columns so that it is easier for users to compare entries with Section B. Certain row header names will be adjusted for clarity (e.g., changing “PS+PB/Total ratio” to “Salaries + Benefits/Total Percentage”) and for alignment with the SF-425 object class categories (e.g., changing “Personnel Benefits” to “Fringe Benefits”). Where appropriate, the renaming described on the VETS-401 will also be reflected on the VETS-402 and VETS-403.

• Formatting and structural changes to make forms compliant with Section 508 accessibility requirements. VETS is committed to ensuring the forms can be read by accessibility software to the greatest possible extent. Some changes to the format and appearance of the forms will be made for this purpose.

VETS continues to require the submittal of a quarterly manager's report in accordance with 38 U.S. Code 4104(f) and Veterans' Program Letter 07-19, but the required information may be submitted in any format.

With respect to the continuation of the approved collection of information, VETS is particularly interested in comments on these topics:

(1) Whether the continued collection of information is necessary for the proper performance and oversight of the Jobs for Veterans State Grant, including whether the information will have practical utility;

(2) The accuracy of the VETS' estimate of the burden of the proposed collection of information;

(3) Ways to enhance the quality, utility, and clarity of the information to be collected; and

(4) Ways to minimize the burden of the collection of information on respondents, including through the use of automated collection techniques, when appropriate, and other forms of information technology.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-VETS.

Type of Review: Revision.

Title of Collection: VETS' Jobs for Veterans State Grant Program Reporting.

Forms:

1. VETS-401, JVSG Budget Information Summary;

2. VETS-402, JVSG Expenditure Detail Report (EDR);

3. VETS-403, JVSG Technical Performance Narrative (TPN);

4. VETS-501, JVSG Staffing Directory.

OMB Control Number: 1293-0009.

Affected Public: State, Local, and Tribal Governments.

Estimated Number of Respondents: 54.

Frequency: On occasion.

Total Estimated Annual Responses: 3,402.

Estimated Total Annual Burden Hours: 6,062.

Total Estimated Annual Other Cost Burden: $0.

Estimated Annual Burden Hours
Type of instrument (form/activity) | Number of respondents | Number of responses per respondent | Total number of responses | Average burden time per response (hours) | Estimated burden hours
VETS-401 Budget | 54 | 1 | 54 | 1.5 | 81
VETS-402 EDR | 54 | ¹ 6 | 324 | 2 | 648
VETS-403 TPN | 54 | 4 | 216 | 2 | 432
VETS-501 Staffing | 54 | 1 | 54 | 1.5 | 81
Managers Report ² | 54 | 51 | 2,754 | 1.75 | 4,819
Unduplicated Total | 54 | 118 | 3,402 | 9 | 6,062
¹ The VETS-402 EDR is a workbook that is updated on a quarterly basis until all funds are expended or the period of performance has ended. On average, grantees need six quarters to expend each year's funding.
² Managers Reports are submitted by a number of respondents and requires a time commitment that is determined largely by grantees' discretion. Values on this row reflect actual estimates rather than VETS requirements.

Authority: 44 U.S.C. 3506(c)(2)(A).

Signed in Washington.
James Rodriguez,
Acting Assistant Secretary, Veterans' Employment and Training Service.

[FR Doc. 2021-23028 Filed 10-21-21; 8:45 am]

BILLING CODE 4510-79-P